DEPARTMENT OF THE INTERIOR

Bureau of Land Management

[LLCAN01000 L10200000.XZ0000 14X LXSIOVHD0000]

Third Call for Nominations for the Northern California Resource Advisory Council

AGENCY: Bureau of Land Management, Interior.

ACTION: Notice.

SUMMARY: The purpose of this notice is to reopen the request for public nominations for the Northern California Resource Advisory Council (RAC), which has 15 open positions this year. This RAC provides advice and recommendations to the Bureau of Land Management (BLM) Northern California District on land use planning and management of public lands within northern California and far northwest Nevada. The BLM will accept public nominations for 30 days after the publication of this notice.

DATES: All nominations must be received no later than November 10, 2014.

ADDRESSES: Nominations should be sent to: Bureau of Land Management, 2950 Riverside Drive, Susanville, CA 96130, Attention, Jeff Fontana. Application forms are available online at: http://www.blm.gov/ca/st/en/info/rac.html. Nominations must be accompanied by all of the information identified below.

FOR FURTHER INFORMATION CONTACT: Nancy K. Haug, Bureau of Land Management, Northern California District Manager, 355 Hemsted Drive, Redding, CA 96130; 530-224-2160.

SUPPLEMENTARY INFORMATION: The Federal Land Policy and Management Act (FLPMA) directs the Secretary of the Interior to involve the public in planning and issues related to management of lands administered by the BLM. Section 309 of the FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR subpart 1784 and include the following three membership categories:

Category One—Holders of Federal grazing permits and representatives of organizations associated with energy and minerals development, timber industry, transportation or rights-of-way, developed outdoor recreation, off-highway vehicle use, and commercial recreation;

Category Two—Representatives of nationally or regionally recognized environmental organizations, archaeological and historic organizations, dispersed recreation activities, and wild horse and burro organizations; and

Category Three—Representatives of State, county, or local elected office, employees of a State agency responsible for management of natural resources, representatives of Indian tribes within or adjacent to the area for which the council is organized, representatives of academia who are employed in the natural sciences, and the public-at-large.

Individuals may nominate themselves or others. Nominees must be residents of the State in which the RAC has jurisdiction. The BLM will evaluate nominees based on their education, training, experience, and knowledge of the geographical area of the RAC. Nominees should demonstrate a commitment to collaborative resource decision-making.

The Obama Administration prohibits individuals who are currently federally registered lobbyists from being appointed or re-appointed to FACA and non-FACA boards, committees, or councils.

The following must accompany all nominations:

—Letters of reference from represented interests or organizations;

—A completed RAC application; and

—Any other information that addresses the nominee's qualifications.

Simultaneous with this notice, the BLM California State Office will issue a press release providing additional information for submitting nominations, with specifics about the number and categories of member positions available. If you have already submitted your nomination materials for the Northern California RAC in response to the first call for nominations published in the Federal Register on February 6, 2014 (79 FR 7223), or the second call for nominations published in the Federal Register on May 27, 2014 (79 FR 30161), you do not need to resubmit the materials.

Authority: 43 CFR 1784.4-1

Martha Maciel,
Deputy State Director, External Affairs.

[FR Doc. 2014-24095 Filed 10-8-14; 8:45 am]

BILLING CODE 4310-40-P